DEPARTMENT OF COMMERCE

Foreign-Trade Zones Board

[Docket 26-2007]

Foreign-Trade Zone 107—Des Moines, Iowa, Expansion of Subzone and Manufacturing Authority—Subzone 107A, Winnebago Industries, Inc. (Motor Home Vehicles), Charles City, Iowa

An application has been submitted to the Foreign-Trade Zones Board (the Board) by the Iowa Foreign-Trade Zone Corporation, grantee of FTZ 107, requesting to expand the subzone and scope of manufacturing authority under zone procedures for Subzone 107A, at the Winnebago Industries, Inc. (Winnebago) facilities in Charles City, Iowa. The application was submitted pursuant to the provisions of the Foreign-Trade Zones Act, as amended (19 U.S.C. 81a-81u), and the regulations of the Board (15 CFR part 400). It was formally filed on July 23, 2007.

Subzone 107A was approved by the Board on September 4, 1984 (Board Order 273, 44 FR 50625, 9/13/84) at Winnebago's motor home manufacturing facility, located at 605 W. Crystal Lake Road in Forest City, Iowa. The facility (1600 employees, 240 acres, 25 buildings/2.2 million sq. ft.) is used to manufacture, test and warehouse recreational vehicles, with specific authority granted for the manufacture of motor home vehicles (HTSUS 8703.23 and 8703.24) under zone procedures (up to 10,000 units annually). The duty rate on the motor home vehicles is 2.5 percent, ad valorem.

The current request involves an expansion of the scope of manufacturing authority in terms of capacity and components as well as the expansion of the subzone to include an additional site in Charles City, Iowa. Proposed Site 2 (495 employees, 55 acres, 5 buildings/352,000 sq. ft.) is located at 1200 Rove Avenue in Charles City, and is located approximately 65 miles southeast of the Forest City Site. The facilities will be used for the manufacture, testing and warehousing of the motor homes mentioned above (up to 3,000 additional units annually).

The primary foreign-sourced component used in manufacturing are chassis with engines installed - HTSUS numbers 8704.21, 8704.22, 8704.31 and 8704.32. Duty rates on the chassis range from 4 percent to 25 percent, ad valorem. Other dutiable components that may be sourced from abroad include the following: petroleum oil products; glues and adhesives; binders for foundry molds; plastic tubing, pipes and hoses; self-adhesive plastics; plastic fittings; compounded rubber products; tires; rubber floor coverings and mats; gaskets, washers and seals; safety glass; glass mirrors; wire cloth and grills; steel tubing and pipe fittings; screws, nuts, washers and bolts of iron and steel; springs and leaves for springs; articles of iron and steel wire; nails, tacks and drawing pins; copper products; aluminum products; hand tools; locks; hinges and castors; spark ignition internal combustion engines; compression ignition internal combustion engines; cast iron engine parts; pumps; fans; air and gas compressors; air conditioning machine parts; oil, fuel and air filters; check valves, taps and cocks; transmission shafts; bearings and bearing housings, gears, flywheels, clutches and pulleys; metal gaskets; electric motors; batteries; starter motors and generators; lighting and sound signaling equipment; windshield wipers and defrosters; microphones and speakers; television antennas; burglar and fire alarms; fuses, relays and switches; electrical filament or discharge lamps; ignition wiring sets; bumpers; safety belts; gear boxes; wheels; suspension components; mufflers and exhaust pipes; steering wheels; clutches; tractor parts; LCD displays; hydrometers, instruments and apparatus for checking flow and pressure of liquids; gas and smoke analysis equipment; speedometers, odometers and tachometers; voltage and voltage current regulators; and, electron-beam microscopes. These components have duty rates ranging from duty-free to 8.6 percent ad valorem.

Zone procedures on the increased production would exempt Winnebago from customs duty payments on the foreign components used in export production to non- NAFTA countries. Exports account for approximately 5 percent of production. On domestic sales and sales to NAFTA countries, Winnebago could defer duty until the products are entered for consumption or exported, and choose the lower duty that applies to the finished product (2.5 percent) for the foreign components listed above. The company would also realize certain logistical savings related to zone to zone transfers and direct delivery procedures as well as savings on materials that become scrap/waste during manufacturing. The application indicates that FTZ-related savings would help improve the Winnebago's international competitiveness.

Public comment is invited from interested parties. Submissions (original and 3 copies) shall be addressed to the Board's Executive Secretary at the address below. The closing period for their receipt is October 1, 2007. Rebuttal comments in response to material submitted during the foregoing period may be submitted during the subsequent 15-day period (to October 15, 2007).

A copy of the application and accompanying exhibits will be available for public inspection at each of the following locations:

U.S. Department of Commerce Export Assistance Center, 210 Walnut Street, Suite 749, Des Moines, Iowa 50309.

Office of the Executive Secretary, Foreign-Trade Zones Board, U.S. Department of Commerce, Room 2111, 1401 Constitution Ave. NW, Washington, DC 20230.

For further information, contact Christopher Kemp at Christopher_kemp@ita.doc.gov or (202) 482-0862.

Dated: July 23, 2007.
Andrew McGilvray,
Executive Secretary.

[FR Doc. E7-14791 Filed 7-30-07; 8:45 am]

BILLING CODE 3510-DS-S